SMALL BUSINESS ADMINISTRATION

Region 1—Maine District Advisory Council; Public Meeting

The U.S. Small Business Administration Maine District Advisory Council, located in the geographical area of Augusta, Maine will hold a public meeting on Wednesday, March 22, 2006, starting at 10 a.m. The meeting will be held at the Care & Comfort, 180 Main Street, Waterville, Maine. The purpose of the meeting is to discuss advice and opinions regarding the effectiveness of and the need for SBA programs, particularly within the local districts which members represent.

Any member of the public wishing to attend must contact Mary McAleney, District Director, Maine District Office, U.S. Small Business Administration, 68 Sewall Street, Room 512, Augusta, Maine 04330, phone (207) 622-8386; fax (207)-622-8277; Mary.McAleney@sba.gov.

Matthew K. Becker,
Committee Management Officer.

[FR Doc. E6-3955 Filed 3-17-06; 8:45 am]

BILLING CODE 8025-01-P